DEPARTMENT OF THE INTERIOR

Bureau of Land Management

[LLCO-930-L1440000-ET0000; COC-63081-01]

Notice of Proposed Withdrawal and Public Meeting, Upper Colorado River Special Recreation Management Area; Colorado

AGENCY: Bureau of Land Management, Interior.

ACTION: Notice of proposed withdrawal and public meeting.

SUMMARY: The Secretary of the Interior proposes to withdraw 12,437 acres of public lands and 939.56 acres of reserved Federal mineral interest from location and entry under the United States mining laws, subject to valid existing rights, but not from leasing under the mineral or geothermal leasing laws, for a period of 20 years to protect scenic and recreation values in the Upper Colorado River Special Recreation Management Area. Publication of this proposal segregates the land for 2 years from location and entry under the United States mining laws, subject to valid existing rights, but not from leasing under the mineral or geothermal leasing laws and initiates a 90-day public comment period.

DATES: Comments must be received by September 29, 2022.

A virtual public meeting is scheduled for August 17, 2022, at 6 p.m. and can be attended using the following link: https://blm.zoomgov.com/j/1611421807?pwd=UVhRd3JZTkhOaXU3WXRvMnViSjIyUT09.

ADDRESSES: Comments and meeting requests should be sent to State Director, Bureau of Land Management, Colorado State Office, 2850 Youngfield Street, Lakewood, Colorado 80215-7093. The BLM is preparing an environmental assessment under the National Environmental Policy Act to evaluate the proposed withdrawal and anticipates reaching a finding of no significant impact. Information regarding the proposed withdrawal, including environmental and other reviews will be available at the Colorado State Office.

FOR FURTHER INFORMATION CONTACT: Jennifer Jardine, Senior Realty Specialist, BLM Colorado State Office, telephone: (970) 385-1224; email: jjardine@blm.gov. Individuals in the United States who are deaf, deafblind, hard of hearing, or have a speech disability may dial 711 (TTY, TDD, or TeleBraille) to access telecommunications relay services for contacting Ms. Jardine. Individuals outside the United States should use the relay services offered within their country to make international calls to the point-of-contact in the United States

SUPPLEMENTARY INFORMATION: The applicant is the Bureau of Land Management (BLM) at the address listed previously. The petition/application requests the Secretary of the Interior to withdraw, for a period of 20 years, subject to valid existing rights, the following described public lands from location or entry under the United States mining laws but not from leasing under the mineral or geothermal leasing laws: Colorado River Special Recreation Management Area:

Sixth Principal Meridian, Colorado

T. 1 N., R. 79 W.,

sec. 8, Parcels A, B, C, and D;

sec. 17, Parcels A and B, NE¼NW¼, S½NW¼, and N½SW¼;

sec. 18, lot 3.

T. 1 N., R. 80 W.,

sec. 13, lots 1 to 4;

sec. 14, SW¼SE¼ and that portion of the S½SW¼ lying southerly from the northern right-of-way fence of Grand County Road No. 33, described in the Warranty Deed Document No. 99004513, filed April 23, 1999, and depicted on the survey plat No. LS400, filed on July 13, 1995, in the official records of Grand County, Colorado;

sec. 15, lots 9 and 11, S½SW¼, S½SE¼, and a metes and bounds parcel located in the N½SW¼ described in the Warranty Deed Document No. 99004513, filed April 23, 1999, and depicted on the survey plat No. LS398, filed on July 13, 1995, in the official records of Grand County, Colorado;

sec. 16, a metes and bounds parcel located in the S½SW¼ and S½SE¼, described in the Warranty Deed Document No. 99004513, filed April 23, 1999, in the deed filed under Reception Number 89020, February 5, 1959, in the deed filed under Reception Number 88584, November 12, 1958, and depicted on the survey plats No. 398 and No. LS399, filed on July 13, 1995, in the official records of Grand County, Colorado;

sec. 19, NE¼SE¼, and a metes and bounds parcel located in the N½NE¼ described in the Warranty Deed Document No. 99004513, filed April 23, 1999, in the official records of Grand County, Colorado;

sec. 20, lots 2 and 3, S½NE¼, S½NW¼, and NE¼SW¼;

sec. 21, N½NE¼, S½NW¼, and that portion of the N½NW¼ lying northerly from the centerline of Grand County Road 33 described in the Warranty Deed Document No. 99004513, filed April 23, 1999, in the deed filed under Reception Number 89020, February 5, 1959, and depicted on the survey plat No. LS399, filed on July 13, 1995, in the official records of Grand County, Colorado;

sec. 22, lots 1 thru 4.

T. 1 N., R. 81 W.,

sec. 13, SW¼SW¼;

sec. 23, SE¼NW¼, NE¼SW¼, and NE¼SE¼;

sec. 24, S½NE¼, S½NW¼, and N½SE¼;

sec. 27, lots 1 thru 15;

sec. 28, SE¼ and SE¼SW¼;

sec. 32, E½ and SW¼;

sec. 33, N½NE¼, SW¼NE¼, and W½.

T. 1 S., R. 81 W.,

sec. 5, lots 8 and 9;

sec. 6, lots 6, 7, and lots 9 thru 18;

sec. 7, lots 5 thru 19;

sec. 18, lots 1 and 2, and E½NW¼.

T. 1 S., R. 82 W.,

sec. 12, lots 1 thru 5, SW¼NE¼, E½SW¼, SW¼SW¼, and W½SE¼;

sec. 13, lots 1 thru 9, W½SW¼ and that portion of Tract 53 lying westerly of the medial line, an ambulatory line, of the Colorado River;

sec. 14, E½SE¼, SE¼SW¼, and N½SE¼, SW¼SE¼;

sec. 22, SE¼;

sec. 23, NE¼, E½NW¼, SW¼, and N½SE¼;

sec. 24, lots 1, 2, and 3, NW¼NW¼, and S½NW¼;

sec. 27, SW¼NW¼, a metes and bounds parcel located in the W½NE¼ and E½NW¼ described in the Warranty Deed with Reception No. 258382, filed June 26, 1987, in the official records of Grand County, Colorado, and a metes and bounds parcel located in the N½NW¼ described in the Warranty Deed with Reception Number 374902, filed September 29, 1986, in the official records of Grand County;

sec. 28, lots 4 thru 6, NE¼NE¼, S½NE¼, NE¼SW¼, NW¼SE¼, and SE¼SE¼;

sec. 32, those portions of unpatented Mineral Survey No. 13963 lying within the E½ of sec. 32, and that portion of Tract 82 within the E½ of sec. 32;

sec. 33, lots 1, 3, 4, 5, and 6, lots 8 thru 11, NE¼, E½NW¼, SW¼NW¼, and that portion of the Bona Dea Placer located in sec. 33;

sec. 34, lot 1 and NW¼NW¼.

T. 2 S., R. 82 W.,

sec. 4, lots 12, 14, 15, 17, 18, and 19, lots 26 thru 30, S½NW¼, NW¼SW¼, and that portion of the Bona Dea Placer located in sec. 4;

sec. 5, lots 5, 6, and 11, lots 14 thru 22, lots 25 and 26, S½NE¼, and N½SE¼ and that portion of the Bona Dea Placer located in sec. 5;

sec. 6, lots 20, 30, 31, 32, 37, and 38, S½NE¼, E½SW¼, SE¼NW¼, and SE¼;

sec. 7, lots 5, thru 7, lots 11 thru 21, NE¼NE¼, SE¼SW¼, and SW¼SE¼;

sec. 18, lots 5 thru 12, and lots 14 thru 17.

T. 2 S., R. 83 W.,

sec. 12, lot 4;

sec. 13, lots 1 thru 4, W½NE¼, E½SW¼, and W½SE¼;

sec. 23, E½NE¼, S½SW¼, SW¼SE¼, NE¼SE¼, N½SE¼SE¼, and N½SW¼SE¼SE¼, N½SE¼SE¼SE¼;

sec. 24, lot 1, E½NE¼, W½, and W½SE¼;

sec. 25, NW¼;

sec. 26, NW¼NW¼NE¼, S½NW¼NE¼, S½NE¼, and NW¼.

The areas described aggregate approximately 12,437 acres in Grand and Eagle Counties.

The petition/application requests the Secretary of the Interior to withdraw, for a period of 20 years, subject to valid existing rights, the following described reserved minerals from location or entry under the United States mining laws but not from leasing under the mineral or geothermal leasing laws:

Sixth Principal Meridian, Colorado

T. 1 N., R. 80 W.,

sec. 20, NW¼NW¼.

T. 1 N., R. 81 W.,

sec. 28, N½SW¼ and SW¼SW¼;

sec. 29, SE¼SE¼.

T. 1 S., R. 82 W.,

sec. 14, SW¼SW¼;

sec. 22, N½NE¼, SW¼NE¼, and SW¼;

sec. 23, NW¼NW¼;

sec. 26, lot 1 and SW¼NW¼;

sec. 27, lots 1 and 2, and N½SE¼;

sec. 33, that portion of Tract 70 lying within the NW¼NW¼.

T. 2 S., R. 82 W.,

sec. 4, lot 22;

sec. 7, that portion of Tract 41 lying in sec. 7.

The areas described aggregate approximately 939.56 acres in Grand and Eagle Counties.

The BLM petition/application has been approved by the Secretary of the Interior, and therefore it constitutes a withdrawal proposal of the Secretary of the Interior (43 CFR 2310.1-3(e)).

The use of a rights-of-way, interagency agreement or cooperative agreement, or surface management under 43 CFR subpart 3809 regulations would not adequately constrain non-discretionary uses and would not provide adequate protection of cultural, recreational, and biological resources, nor the financial investments in public campgrounds and other improvements on these lands.

There are no suitable alternative sites, as the described land contains the resource values that need protection.

Water rights will not be needed to fulfill the purpose of the proposed withdrawal.

For a period of 90 days from the date of publication of this notice, all persons who wish to submit comments, suggestions, or objections in connection with the proposed withdrawal may present their views in writing to the BLM Colorado State Director at the address listed earlier (see ADDRESSES).

Comments, including names and street addresses of respondents, will be available for public review at the BLM Colorado State Office during regular business hours, 7:45 a.m. to 4:15 p.m. Monday through Friday, except Federal holidays. Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives of officials of organizations or businesses, will be made available for public inspection in their entirety.

For a period until July 1, 2024, subject to valid existing rights, the lands and mineral interests in this notice will be segregated from location and entry under the United States mining laws, unless the application is denied or canceled, or the withdrawal is approved prior to that date.

This withdrawal application will be processed in accordance with the regulations set forth in 43 CFR part 2300.

Licenses, permits, cooperative agreements, or discretionary land use authorizations of a temporary nature that will not significantly impact the values to be protected by this withdrawal may be allowed with the approval of the authorized officer of the BLM during the segregative period.

(Authority: 43 CFR 2310.3-1(a).)

Brian Achziger,
Acting BLM Colorado State Director.

[FR Doc. 2022-14103 Filed 6-30-22; 8:45 am]

BILLING CODE 4310-JB-P